NUCLEAR REGULATORY COMMISSION

[Docket No. 52-008]

Dominion Nuclear North Anna, LLC; Notice of Intent To Prepare a Supplement to the Draft Environmental Impact Statement for the North Anna ESP Application

On September 25, 2003, the U.S. Nuclear Regulatory Commission (NRC, or the Commission) received an application pursuant to Title 10 of the Code of Federal Regulations, Part 52 (10 CFR part 52) from Dominion Nuclear North Anna, LLC (Dominion) for an early site permit (ESP) for the North Anna ESP site located in Louisa County, Virginia near the town of Mineral. On December 10, 2004, the NRC issued a Federal Register notice (69 FR 71854) announcing the availability of NUREG-1811, “Draft Environmental Impact Statement for an Early Site Permit (ESP) at the North Anna ESP Site” (DEIS) and sought comment on the DEIS. On April 13, 2006, Dominion submitted a revision to its application. The revision to the application described changes to the cooling water system for postulated Unit 3 at the North Anna ESP site and an increase in power level for both postulated Units 3 and 4.

The purpose of this notice is to inform the public that pursuant to 10 CFR 51.72, the NRC will be preparing a supplement to its DEIS in support of the review of the ESP application. A subsequent Federal Register notice will announce the availability of the supplement to the DEIS and will request public comments on the supplement.

An applicant may seek an early site permit in accordance with subpart A of 10 CFR part 52 separate from the filing of an application for a construction permit (CP) or combined license (COL) for a nuclear power facility. The ESP process allows resolution of issues relating to siting. At any time during the term of an ESP (up to 20 years), the permit may be referenced in an application for a CP or COL. The staff evaluated possible alternatives to the proposed action (issuance of an ESP at the North Anna ESP site) including the no action alternative and alternative sites in its DEIS to determine if there was an obviously superior alternate site.

In the supplement to the DEIS the staff will evaluate only the impacts of the changes proposed for the cooling system for postulated Unit 3 and the power increase from 4300-4500 MWt for postulated Units 3 and 4. Scoping was previously conducted for the original DEIS and the the changes described in the revision to the application do not appear to change the scope of the environmental evaluation required by 10 CFR 52.18. Therefore, pursuant to 10 CFR 51.72(c), additional scoping is unnecessary and will not be conducted. The Final Environmental Impact Statement will contain both the staff's evaluation of the changes proposed in the April 13, 2006, revision to the application and the staff's evaluation of those areas that were not affected by the revision.

A copy of the application, including the environmental report, is available for public inspection at the Commission's Public Document Room (PDR), located at One White Flint North, 11555 Rockville Pike (first floor), Rockville, Maryland 20852 and via the Agencywide Documents Access and Management System (ADAMS) Public Electronic Reading Room on the Internet at the NRC Web site, http://www.nrc.gov/reading-rm/adams.html. The accession number for the revised application is ML061180180. Future publicly available documents related to the application will also be posted in ADAMS. Persons who do not have access to ADAMS or who encounter problems in accessing the documents located in ADAMS should contact the NRC Public Document Room staff by telephone at 1-800-397-4209 or 301-415-4737, or by e-mail to pdr@nrc.gov.

The Louisa County Library, located at 881 Davis Highway, Mineral, Virginia has agreed to make the application available to local residents. The application is also available on the NRC Web page at http://www.nrc.gov/reactors/new-licensing/esp/north-anna.html. For further information regarding the proposed action, contact Mr. Nitin Patel, Project Manager at telephone number 301-415-3201 or by mail at U.S. Nuclear Regulatory Commission, ATTN: Nitin Patel, Mail Stop 0-4D9A, One White Flint North, 11555 Rockville Pike, Rockville, Maryland 20852-2738. For further information regarding the environmental impact statement, contact Mr. Jack Cushing, Senior Environmental Project Manager, at telephone number 301-415-1424, or by mail at U.S. Nuclear Regulatory Commission, ATTN: Jack Cushing, Mail Stop 0-11F1, One White Flint North, 11555 Rockville Pike, Rockville, Maryland 20852-2738.

Dated at Rockville, Maryland, this 10th day of May 2006.
For the Nuclear Regulatory Commission.
Jack Cushing,
Acting Chief, New Reactors Environmental Projects Branch, Division of New Reactor Licensing, Office of Nuclear Reactor Regulation.

[FR Doc. E6-7426 Filed 5-15-06; 8:45 am]

BILLING CODE 7590-01-P